DEPARTMENT OF THE INTERIOR

National Park Service

Notice of Availability of the Finding of No Significant Impact for Proposed Actions To Manage Flight Obstructions To Preserve Safety at Andrews Air Force Base, Affecting Suitland Parkway

ACTION: Notice of availability of Decision Notice (DN) and Finding of No Significant Impact (FONSI).

SUMMARY: Pursuant to the National Environmental Policy Act (NEPA), Council on Environmental Quality regulations, and NPS guidance, the United States Air Force (USAF) and the National Park Service (NPS) prepared an environmental assessment (EA) for the management of flight obstructions to preserve safety at Andrews Air Force Base (AAFB), which is an action affecting Suitland Parkway, in Prince George's County, Maryland. Suitland Parkway is administered by the NPS. The EA contained analysis developed in consideration of comments received as a result of a public scoping meeting held on February 6, 2001. The USAF is the lead agency for this project and prepared an EA with assistance from the NPS and advertised its availability for public review on December 26, 2002. The NPS is a cooperating agency and published a Federal Register notice of availability on January 16, 2003. The NPS 30-day public review period initiated by the FR notice ended on February 17, 2003. After the comment period, NPS selected Alternative 2: Vegetation Management, and issued a FONSI on May 13, 2003.

Alternative 2 would bring the runways into compliance with airspace clearance requirements established to ensure safe operation of the runways by trimming, removing, and replacing trees within the Suitland Parkway corridor that are tall enough to penetrate the approach/departure surfaces at the adjacent AAFB. These obstructions are considered by the USAF to be an adverse effect on safe flight operations at AAFB and the selected alternative would improve safety for aircraft using AAFB. The USAF also selected this alternative for action.

Suitland Parkway is listed on the National Register of Historic Places (NRHP). The NPS and USAF, in consultation with the Maryland State Historic Preservation Office (SHPO), determined the undertaking has the potential to have an adverse effect on cultural landscape characteristics contributing to Suitland Parkway's listing on the NRHP. In order to meet their responsibilities pursuant to Section 106 of the National Historic Preservation Act, prior to making decisions on the EA, the NPS, USAF, and SHPO entered a Memorandum of Agreement (MOA) that directs the preparation and implementation of a Supplemental Implementation Plan (SIP) providing specific details for work to be carried out on Suitland Parkway. The Maryland Department of Natural Resources (MDNR) signed in concurrence with this MOA. The MOA was provided to the Advisory Council on Historic Preservation (ACHP), and its acknowledgment of the filing of the MOA completed the requirements of Section 106 of the National Historic Preservation Act and the Council's regulations.

The NPS and USAF are in the process of preparing the SIP. Vegetation management will convert the naturally growing deciduous forest adjoining both sides of Suitland Parkway to other native vegetation dominated by low-growing deciduous and evergreen shrubs and low trees. The removal of trees would be mitigated by replanting, especially adjacent to the roadway, to expedite the restoration of the natural character and screening qualities of the trees.

SUPPLEMENTARY INFORMATION: Requests for copies of the NPS, DN/FONSI/EA, or for any additional information, should be directed to Mr. Michael Wilderman, National Capital Parks-East, 1900 Anacostia Drive, SE., Washington, DC 20020, Telephone: (202) 690-5165.

Dated: January 28, 2004.
Terry R. Carlstrom,
Regional Director, National Park Service, National Capital Region.

[FR Doc. 04-4132 Filed 2-24-04; 8:45 am]

BILLING CODE 4310-71-P